DEPARTMENT OF COMMERCE

National Institute of Standards and Technology

[Docket No.: 010910225-1225-01]

Notice of Intent To Modernize the Existing FORTRAN Content Management System of the ACerS-NIST Phase Equilibria for Ceramics Database.

AGENCY: National Institute of Standards and Technology, Commerce.

ACTION: Notice and request for comments.

SUMMARY: The National Institute of Standards and Technology announces its intent to provide technical assistance to the American Ceramic Society Inc. (ACerS) to update the current FORTRAN Content Management System (CMS) system that provides users with access to the NIST-ACerS Phase Equilibria for Ceramics database. The updated CMS system will provide users with improved access to the database. Interested parties are invited to submit comments to the address below. Work on the project will not begin until after the comment period ends.

DATES: Comments must be received by November 13, 2001.

ADDRESSES: Comments should be sent to the attention of Stephen Freiman at the National Institute of Standards and Technology, Mail Stop 8520, 100 Bureau Drive, Gaithersburg, MD, 20899-8520.

FOR FURTHER INFORMATION CONTACT: Stephen Freiman by writing to the above address or by e-mail at stephen.freiman@nist.gov or by telephone at (301) 975-6119.

SUPPLEMENTARY INFORMATION: As part of its responsibilities under Title 15 U.S.C. 290 to collect, evaluate and publish high quality Standard Reference Data (SRD), NIST creates and maintains SRD databases. NIST intends to work with the American Ceramic Society, Inc. in their effort to modernize AcerS software that delivers critically evaluated phase equilibrium data for ceramic and other inorganic materials. NIST will provide technical assistance to identify appropriate scientific, mathematical, analytical and display algorithms for implementation in the new AcerS software. NIST will also provide documentation on existing related NIST algorithms and will verify proposed new algorithms for scientific and computational correctness and accuracy. All work done by NIST scientists will be on NIST premises. Interested parties are invited to submit comments.

Dated: October 5, 2001.
Karen H. Brown,
Deputy Director.

[FR Doc. 01-25745 Filed 10-11-01; 8:45 am]

BILLING CODE 3510-13-M